ENVIRONMENTAL PROTECTION AGENCY

[EPA-OW-2018-0270; FRL-9980-54-OW]

Announcement of the Per- and Polyfluoroalkyl Substances (PFAS) Pennsylvania Community Engagement

Correction

In notice document 2018-14738 appearing on pages 31968-31969 in the issue of July 10, 2018, make the following correction:

On page 31968, in the second column, under the ADDRESSES heading, in the second and third lines, “Hatboro-Horsham High School, 899 Horsham Road” should read “Keith Valley Middle School, 227 Meetinghouse Road”.

[FR Doc. C1-2018-14738 Filed 7-23-18; 8:45 am]

BILLING CODE 1301-00-D